DEPARTMENT OF DEFENSE

Department of the Army

Availability for Non-Exclusive, Exclusive, or Partially Exclusive Licensing of U.S. Patent Application Concerning Securing Device for an Endotracheal Tube

AGENCY: Department of the Army, DOD.

ACTION: Notice.

SUMMARY: In accordance with 37 CFR 404.6, announcement is made of the availability for licensing of U.S. Patent Application No. 09/789,708 entitled “Securing Device for an Endotracheal Tube” filed February 22, 2001. Foreign rights are also available (PTC/US01/05558). The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A securing device for an endotracheal tube includes a shield having an opening through which the endotracheal tube can pass and a clamp mounted on the shield for holding the endotracheal tube. A bite block for preventing occlusion of the endotracheal tube by a patient's teeth may be mounted on an opposite surface of the shield from the clamp.

Luz D. Ortiz,
Army Federal Register Liaison Officer.

[FR Doc. 02-8676 Filed 4-9-02; 8:45 am]

BILLING CODE 3710-08-M